DEPARTMENT OF COMMERCE

International Trade Administration

[A-570-994, A-851-803, A-428-842, A-588-871, A-580-871, A-455-804, A-821-821]

Grain-Oriented Electrical Steel From the People's Republic of China, the Czech Republic, Germany, Japan, the Republic of Korea, Poland, and the Russian Federation: Postponement of Preliminary Determinations in the Antidumping Duty Investigations

AGENCY: Enforcement and Compliance, formerly Import Administration, International Trade Administration, Department of Commerce.

FOR FURTHER INFORMATION CONTACT: Steve Bezirganian or Robert James at (202) 482-1131 or (202) 482-0649, respectively, AD/CVD Operations, Office VI, Enforcement and Compliance, International Trade Administration, U.S. Department of Commerce, 14th Street and Constitution Avenue NW., Washington, DC 20230.

SUPPLEMENTARY INFORMATION:

Background

On October 24, 2013, the Department of Commerce (the Department) initiated the antidumping investigations on grain-oriented electrical steel from the People's Republic of China, the Czech Republic, Germany, Japan, the Republic of Korea, Poland, and the Russian Federation.¹ The notice of initiation stated that, unless postponed, the Department would issue its preliminary determinations for these investigations no later than 140 days after the date of the initiation in accordance with section 773(b)(1)(A) of the Tariff Act of 1930, as amended (the Act), and 19 CFR 351.205(b)(1). The preliminary determinations currently are due no later than March 13, 2014.

¹ See Grain-Oriented Electrical Steel From the People's Republic of China, the Czech Republic, Germany, Japan, the Republic of Korea, Poland, and the Russian Federation: Initiation of Antidumping Duty Investigations, 78 FR 65283 (October 31, 2013).

Postponement of the Preliminary Determinations

On February 10, 2014, more than 25 days before the scheduled preliminary determinations, AK Steel Corporation, Allegheny Ludlum, LLC, and the United Steelworkers (the Petitioners), pursuant to section 733(c)(1)(A) of the Act and 19 CFR 351.205(b)(2) and (e), made a timely request for a 50-day postponement of the preliminary determinations in these investigations.² The Petitioners noted in their request that this extension will provide additional time for the Department to continue to gather additional information from respondents and perform required analysis.

² See Letter from Petitioners to Secretary of Commerce, “Antidumping Investigations of Grain-Oriented Electrical Steel (“GOES”) from China, Czech Republic, Germany, Japan, South Korea, Poland, and Russia: Petitioners' Request for Extension of Preliminary Determination,” dated February 10, 2014.

The Department has found no compelling reason to deny the request and, therefore, in accordance with section 733(c)(1)(A) of the Act and 19 CFR 351.205(e), the Department is postponing the deadline for the preliminary determinations to no later than the 190th day after the date on which the investigations were initiated, or May 2, 2014. In accordance with section 735(a)(1) of the Act, the deadline for the final determinations of these investigations will continue to be 75 days after the date of the preliminary determinations, unless postponed at a later date.

This notice is issued and published pursuant to section 733(c)(2) of the Act and 19 CFR 351.205(f)(1).

Dated: February 21, 2014.
Paul Piquado,
Assistant Secretary for Enforcement and Compliance.

[FR Doc. 2014-04351 Filed 2-26-14; 8:45 am]

BILLING CODE 3510-DS-P